DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS is named as the respondent in all proceedings brought by the filing of petitions for compensation under the program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the United States Court of Federal Claims and to serve a copy of the petition on the Secretary of HHS, who is named as the respondent in each proceeding. The Secretary has delegated this responsibility under the program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This table lists for each covered childhood vaccine the conditions that may lead to compensation and, for each condition, the time period for occurrence of the first symptom or manifestation of onset or of significant aggravation after vaccine administration. Compensation may also be awarded for conditions not listed in the table and for conditions that are manifested outside the time periods specified in the table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2018, through January 31, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: February 28, 2018.
George Sigounas,
Administrator.

List of Petitions Filed

1. Marilyn Datte, Midland, Michigan, Court of Federal Claims No: 18-0002V

2. Neena Hartshorn, Grandview, Missouri, Court of Federal Claims No: 18-0007V

3. Ronnie Duesterheft, Lockhart, Texas, Court of Federal Claims No: 18-0008V

4. Ana Severino, Boston, Massachusetts, Court of Federal Claims No: 18-0009V

5. Maureen Pascual, San Jose, California, Court of Federal Claims No: 18-0010V

6. Joshua Yeargin and Sheri Yeargin on behalf of W. Y., Washington, District of Columbia, Court of Federal Claims No: 18-0011V

7. Joshua Yeargin and Sheri Yeargin on behalf of A. Y., Washington, District of Columbia, Court of Federal Claims No: 18-0012V

8. Susan Grossman, Kinnelon, New Jersey, Court of Federal Claims No: 18-0013V

9. Sharmora Phillips on behalf of P. N. H., Deceased, New York, New York, Court of Federal Claims No: 18-0015V

10. Ingrid M. Larish, Alden, New York, Court of Federal Claims No: 18-0020V

11. Suzanne Mulrenin on behalf of R. M., Phoenix, Arizona, Court of Federal Claims No: 18-0022V

12. Nathania Stephens, Mankato, Minnesota, Court of Federal Claims No: 18-0023V

13. Alton Redfern, Sr., Greensboro, North Carolina, Court of Federal Claims No: 18-0026V

14. Melissa Bishop, Kingsport, Tennessee, Court of Federal Claims No: 18-0027V

15. Matthew Gotch, Aurora, Colorado, Court of Federal Claims No: 18-0028V

16. Carolyn Gurney on behalf of Donald K. Gurney, American Fork, Utah, Court of Federal Claims No: 18-0029V

17. Lorinda L. Schneider on behalf of M. A. M., Salem, Indiana, Court of Federal Claims No: 18-0030V

18. Prescilla Laurilla, Chicago, Illinois, Court of Federal Claims No: 18-0031V

19. Velva C. Sloan, Huntington, West Virginia, Court of Federal Claims No: 18-0032V

20. Leah Cromer, Orangeburg, South Carolina, Court of Federal Claims No: 18-0033V

21. Kim Mailangkay, Patton, California, Court of Federal Claims No: 18-0036V

22. Richard Stroessner, Ash Flat, Arkansas, Court of Federal Claims No: 18-0037V

23. Dean Leslie, Louisville, Kentucky, Court of Federal Claims No: 18-0039V

24. Donna Gordon on behalf of Ray A. Gordon, Deceased, Boston, Massachusetts, Court of Federal Claims No: 18-0040V

25. Donald A. Barrett, Rochester, New York, Court of Federal Claims No: 18-0041V

26. Jonathan G. Adams, Green Brook, New Jersey, Court of Federal Claims No: 18-0042V

27. Dorothy Smith, Odessa, Texas, Court of Federal Claims No: 18-0043V

28. Lori Carre, Norristown, Pennsylvania, Court of Federal Claims No: 18-0044V

29. Jessica Ott, Waterloo, Iowa, Court of Federal Claims No: 18-0050V

30. Lonn Rickstrom, Washington, District of Columbia, Court of Federal Claims No: 18-0053V

31. Karin Martindale, Jacksonville, Florida, Court of Federal Claims No: 18-0054V

32. Donna Callaway, Charlotte, North Carolina, Court of Federal Claims No: 18-0055V

33. Hayley Stricker, Phoenix, Arizona, Court of Federal Claims No: 18-0056V

34. Becky Layne, Palmer, Tennessee, Court of Federal Claims No: 18-0057V

35. Robbie Hartley, Rome, Georgia, Court of Federal Claims No: 18-0058V

36. Walter White, Laguna Beach, California, Court of Federal Claims No: 18-0059V

37. Dennis Allen, Jr., Allegan, Michigan, Court of Federal Claims No: 18-0060V

38. Donald Nearing, Vista, California, Court of Federal Claims No: 18-0066V

39. Terrance Monk on behalf of Child Daughter, Nanuet, New York, Court of Federal Claims No: 18-0068V

40. Cheryl Welch, Boston, Massachusetts, Court of Federal Claims No: 18-0074V

41. Sherri Cayton, Highpoint, North Carolina, Court of Federal Claims No: 18-0075V

42. Lisa McGonigal, Akron, Ohio, Court of Federal Claims No: 18-0077V

43. Yoshida Tate, Waupun, Wisconsin, Court of Federal Claims No: 18-0081V

44. L. C. Hogan, Waupun, Wisconsin, Court of Federal Claims No: 18-0082V

45. Sara Bokobza, San Diego, California, Court of Federal Claims No: 18-0083V

46. Robert Cramer, Rochester, Minnesota, Court of Federal Claims No: 18-0085V

47. Wanda Witherspoon, Baltimore, Maryland, Court of Federal Claims No: 18-0087V

48. Jennifer Robinson, Sherman, Texas, Court of Federal Claims No: 18-0088V

49. Mehmet Ozgur, Burbank, California, Court of Federal Claims No: 18-0089V

50. Michael Kuhn, Springfield, Illinois, Court of Federal Claims No: 18-0091V

51. Robert C. Lott, Butler, Pennsylvania, Court of Federal Claims No: 18-0095V

52. Marissa Nicole Como, Providence, Rhode Island, Court of Federal Claims No: 18-0099V

53. Cynthia Price Taylor, Boston, Massachusetts, Court of Federal Claims No: 18-0100V

54. Tonya Bohatch, Grindstone, Pennsylvania, Court of Federal Claims No: 18-0101V

55. Michael Allison, Tacoma, Washington, Court of Federal Claims No: 18-0103V

56. Richard Van Dycke, Chicago, Illinois, Court of Federal Claims No: 18-0106V

57. Herbert E. Bowling, Jr. on behalf of Evelyn L. Bowling, Deceased, Geneva, Ohio, Court of Federal Claims No: 18-0109V

58. Gianluca Saccone, Decatur, Georgia, Court of Federal Claims No: 18-0113V

59. Joe H. Castillo, Washington, District of Columbia, Court of Federal Claims No: 18-0115V

60. Claudie Lee Southern, Irving, Texas, Court of Federal Claims No: 18-0116V

61. Daniel Boits, Portage, Indiana, Court of Federal Claims No: 18-0119V

62. Kathy Lynn Gipple, Johnston, Iowa, Court of Federal Claims No: 18-0120V

63. Heather Snyder, Lancaster, Pennsylvania, Court of Federal Claims No: 18-0122V

64. Wyatt Bell, Kuna, Idaho, Court of Federal Claims No: 18-0125V

65. Linda Skadra, Latham, New York, Court of Federal Claims No: 18-0126V

66. Jennifer Brown, Washington, District of Columbia, Court of Federal Claims No: 18-0127V

67. Fred Bove, San Francisco, California, Court of Federal Claims No: 18-0128V

68. Kenneth Capra, Lakewood, Colorado, Court of Federal Claims No: 18-0129V

69. Marilee Boerger, Sheboygan, Wisconsin, Court of Federal Claims No: 18-0130V

70. Linda Kuznitz, Washington, District of Columbia, Court of Federal Claims No: 18-0131V

71. Taylor E. Porter and Kelvin D. Woods on behalf of A. W., Deceased, Linwood, New Jersey, Court of Federal Claims No: 18-0132V

72. Melissa Norred, Phoenix, Arizona, Court of Federal Claims No: 18-0133V

73. Carl Browning, Palestine, Texas, Court of Federal Claims No: 18-0135V

74. Ricardo Hernandez, Dallas, Texas, Court of Federal Claims No: 18-0137V

75. Steven Streeter, Piermont, New York, Court of Federal Claims No: 18-0138V

76. Leslie Mintzer, New York, New York, Court of Federal Claims No: 18-0139V

77. Cynthia Nute, Wentzville, Missouri, Court of Federal Claims No: 18-0140V

78. Wanda J. Payne, Taylorsville, North Carolina, Court of Federal Claims No: 18-0145V

79. Daphne Dodson, Columbus, Ohio, Court of Federal Claims No: 18-0150V

80. Archana Chander on behalf of L. M., Phoenix, Arizona, Court of Federal Claims No: 18-0151V

81. Edward McCall, Phoenix, Arizona, Court of Federal Claims No: 18-0152V

82. Elaine H. Lander, Wellesley Hills, Massachusetts, Court of Federal Claims No: 18-0153V

83. Michael Cericola, Bristol, Virginia, Court of Federal Claims No: 18-0155V

84. John Huff, Covington, Kentucky, Court of Federal Claims No: 18-0156V

85. Monica Gomez, San Diego, California, Court of Federal Claims No: 18-0157V

86. Margery Hebden, Myrtle Beach, South Carolina, Court of Federal Claims No: 18-0158V

87. Ami Neil, Walker, Michigan, Court of Federal Claims No: 18-0159V

88. Nga Hong Jones, Clackamas, Oregon, Court of Federal Claims No: 18-0160V

[FR Doc. 2018-04506 Filed 3-5-18; 8:45 am]

BILLING CODE 4165-15-P